DEPARTMENT OF TRANSPORTATION

Bureau of Transportation Statistics

Agency Information Collection; Activity Under OMB Review; Reporting the Causes of Airline Cancellations and Delays

AGENCY: Bureau of Transportation Statistics (BTS), DOT.

ACTION: Notice.

SUMMARY: In compliance with the Paperwork Reduction Act of 1995, Public Law 104-13, the BTS invites the general public, industry and other governmental parties to comment on air carriers voluntarily reporting on the causes of cancellations and delays of domestic scheduled passenger flights. The voluntary data submission would be used to identify specific problem areas within the national aviation system. By classifying causes of delays into four categories and causes of cancellations into three categories, the Department of Transportation (DOT) would be able to readily identify problem areas within the air transport system. With this knowledge, the DOT should be able to address the airline delays and cancellations within its control.

The DOT is in the process of submitting an emergency request to OMB to allow BTS to collect the voluntary causal data. BTS estimates that participating air carriers will be ready to begin voluntary reporting in early November, thus BTS is seeking OMB emergency approval rather than the normal approval process established in 5 CFR Part 1320.

The participating air carriers regard their causal data as confidential, proprietary business information; and have agreed to voluntarily submit the data on the condition that the Federal government use the data for internal purposes and not published or released the data to the general public. In addition, the air carriers expressed concerns that, at least initially, there would be technical difficulties with the new voluntary reporting system which could affect the accuracy of the resulting information. While BTS believes that reports on causal data will eventually be useful to airline consumers, this information must be is accurate and reliable. Thus, BTS has agreed to treat the air carriers' voluntary casual data as confidential business information. In order to gather public comment on a delay and cancellation reporting system, BTS is drafting a notice of proposed rulemaking (NPRM) that will propose the framework for a reporting system. Once the NPRM becomes a final rule, BTS intends release and publish causal data.

DATES: Written comments should be submitted by October 1, 2001.

ADDRESSES: Comments should be directed to: Office of Airline Information, K-25, Room 4125, Bureau of Transportation Statistics, 400 Seventh Street, SW., Washington, DC 20590-0001, FAX NO. 366-3383 or EMAIL bernard.stankus@bts.gov.

Comments: Comments should identify the OMB # 2138-NEW. Persons wishing the Department to acknowledge receipt of their comments must submit with those comments a self-addressed stamped postcard on which the following statement is made: Comments on OMB # 2138-NEW. The postcard will be date/time stamped and returned.

FOR FURTHER INFORMATION CONTACT: Bernie Stankus Office of Airline Information, K-25, Room 4125, Bureau of Transportation Statistics, 400 Seventh Street, SW., Washington, DC 20590-0001, (202) 366-4387.

SUPPLEMENTARY INFORMATION:

OMB Approval No. 2138-NEW

Title: Reporting the Causes of Airline Cancellations and Delays.

Form No.: BTS Form 234.

Type Of Review: New collection.

Respondents: Large certificated air carriers that account for at least 1 percent of the domestic scheduled passenger revenues.

Number of Respondents: 10.

Programming Burden Per Respondent: 15 hours.

Total Burden: 150 hours.

Needs and Uses:

Identifying and Reducing Traffic Delays

The DOT would use the causal data collected and processed by BTS to pinpoint and analyze air traffic delays and cancellations that occur under DOT's control. Currently, BTS can identify which flights are delayed or cancelled but, not the cause of the delay or cancellation. By eliminating the delays and cancellations that are caused by extreme weather, the air carrier or by the late arrival of an aircraft of a previous flight, the DOT would be able to focus its attention to solving problem areas within its control.

Reporting Burden for Voluntary Reporting

One of the reporting carriers, that participated in BTS' pilot program on causal data, estimated that it took from 10 to 15 hours to reprogram its reporting system. Once this reprogramming effort was completed, the carrier stated that there was little, if any, additional reporting burden required to submit the monthly on-time reports.

Ashish Sen,
Director, Bureau of Transportation Statistics.

[FR Doc. 01-22041 Filed 8-30-01; 8:45 am]

BILLING CODE 4910-FE-P